DEPARTMENT OF COMMERCE

Foreign-Trade Zones Board

[B-54-2024]

Foreign-Trade Zone (FTZ) 143, Notification of Proposed Production Activity; Robert Bosch Semiconductor LLC; (Silicon Carbide Wafers); Roseville, California

The Sacramento-Yolo Port District, grantee of FTZ 143, submitted a notification of proposed production activity to the FTZ Board (the Board) on behalf of Robert Bosch Semiconductor LLC (Bosch) for Bosch's facility in Roseville, California within FTZ 143. The notification conforming to the requirements of the Board's regulations (15 CFR 400.22) was received on September 30, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is metal-oxide-semiconductor field-effect transistors (MOSFET) (duty-free).

The proposed foreign-status component is silicon carbide (SiC) wafers (duty-free). The request indicates that SiC wafers are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is November 27, 2024.

A copy of the notification will be available for public inspection in the “Online FTZ Information System” section of the Board's website.

For further information, contact Christopher Wedderburn at Chris.Wedderburn@trade.gov.

Dated: October 15, 2024.
Elizabeth Whiteman,
Executive Secretary.

[FR Doc. 2024-24136 Filed 10-17-24; 8:45 am]

BILLING CODE 3510-DS-P